DEPARTMENT OF TRANSPORTATION

Federal Aviation Administration

14 CFR Part 39

[Docket No. 2003-NM-121-AD]

RIN 2120-AA64

Airworthiness Directives; Dornier Model 328-300 Series Airplanes

AGENCY: Federal Aviation Administration, DOT.

ACTION: Notice of proposed rulemaking (NPRM).

SUMMARY: This document proposes the adoption of a new airworthiness directive (AD) that is applicable to all Dornier Model 328-300 series airplanes. This proposal would require various one-time inspections for discrepancies of the ground spoiler assemblies and the flap of each wing, and related investigative and corrective actions. This action is necessary to prevent failure of certain ground spoiler support arms due to interference between the ground spoiler assemblies and the wing flaps, which could result in loss of function of affected ground spoiler assemblies and consequent reduced controllability of the airplane. This action is intended to address the identified unsafe condition.

DATES: Comments must be received by April 16, 2004.

ADDRESSES: Submit comments in triplicate to the Federal Aviation Administration (FAA), Transport Airplane Directorate, ANM-114, Attention: Rules Docket No. 2003-NM-121-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-121-AD” in the subject line and need not be submitted in triplicate. Comments sent via the Internet as attached electronic files must be formatted in Microsoft Word 97 or 2000 or ASCII text.

The service information referenced in the proposed rule may be obtained from AvCraft Aerospace GmbH, P.O. Box 1103, D-82230 Wessling, Germany. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-121-AD.” The postcard will be date stamped and returned to the commenter.

Availability of NPRMs

Any person may obtain a copy of this NPRM by submitting a request to the FAA, Transport Airplane Directorate, ANM-114, Attention: Rules Docket No. 2003-NM-121-AD, 1601 Lind Avenue, SW., Renton, Washington 98055-4056.

Discussion

The Luftfahrt-Bundesamt (LBA), which is the airworthiness authority for Germany, notified the FAA that an unsafe condition may exist on all Dornier Model 328-300 series airplanes. The LBA advises that there may be insufficient clearance between the bottom of the trailing edges of the ground spoilers and the upper surfaces of the wing flaps, which places higher loads on support arms #3 and #8 of the ground spoiler assemblies. Higher loads may result in premature cracking of the support arms. This condition, if not corrected, could result in loss of function of the affected ground spoiler assemblies, and consequent reduced controllability of the airplane.

Explanation of Relevant Service Information

Dornier has issued Service Bulletin SB-328J-57-180, Revision 1, dated March 10, 2003, which describes procedures for a visual inspection, contour inspection, and clearance inspection of the ground spoilers and the flap of each wing for discrepancies, and the following related investigative and corrective actions:

• A visual inspection of the flap protection strip for chafing marks, reporting inspection results to the manufacturer, and inspecting the bottom surface of the ground spoiler and the mating upper surface of the flap of each wing for surface damage (chafing marks or paint damage), and repair if necessary.

• A contour inspection of the ground spoiler and the flap of each wing to determine if they are within the tolerances specified in Table 1 of the service bulletin, adjusting the ground spoiler actuator if out of tolerance, and repeating the inspection one time if the ground spoiler actuator is adjusted.

• A clearance inspection between the bottom of the trailing edge of the ground spoiler and the upper surface of the flap of each wing. If there is a notable deflection (spring back effect) between the ground spoiler and the surface, the service bulletin recommends writing down and reporting the results of the clearance and contour inspections to the manufacturer. If there is no notable deflection (spring back effect) between the ground spoiler and the surface, the service bulletin recommends adjusting the ground spoiler actuator and repeating the contour inspection one time.

Accomplishment of the actions specified in the service bulletin is intended to adequately address the identified unsafe condition. The LBA classified this service bulletin as mandatory and issued German airworthiness directive 2003-120/2, dated July 24, 2003, to ensure the continued airworthiness of these airplanes in Germany.

FAA's Conclusions

This airplane model is manufactured in Germany and is type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between the Proposed AD, German Airworthiness Directive, and Service Information

Operators should note that the service bulletin recommends doing the specified actions “as soon as possible, or at the latest, at the next A-Check or equivalent.” The German airworthiness directive recommends doing the actions “as soon as possible, but not later than the next A-Check.” Because “A-Check” schedules vary among operators, this proposed AD would require accomplishment of the actions within 400 flight cycles after the effective date of this proposed AD. We find that a compliance time of within 400 flight cycles after the effective date of this AD is appropriate for affected airplanes to continue to operate without compromising safety.

Whereas the service bulletin specifies a visual inspection of the flap protection strip for chafing marks, this proposed AD requires a general visual inspection. A note has been added to define that inspection.

The service bulletin also specifies to submit information to the manufacturer, however, this proposed AD does not include such a requirement.

Cost Impact

We estimate that 48 airplanes of U.S. registry would be affected by this proposed AD, that it would take approximately 2 work hours per airplane to accomplish the proposed actions, and that the average labor rate is $65 per work hour. Based on these figures, the cost impact of the proposed AD on U.S. operators is estimated to be $6,240, or $130 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fairchild Dornier Gmbh (Formerly Dornier Luftfahrt GmbH): Docket 2003-NM-121-AD.

Applicability: All Model 328-300 airplanes, certificated in any category.

Compliance: Required as indicated, unless accomplished previously.

To prevent failure of certain ground spoiler support arms due to interference between the ground spoiler assemblies and the wing flaps, which could result in loss of function of affected ground spoiler assemblies and consequent reduced controllability of the airplane, accomplish the following:

General Visual, Contour, and Clearance Inspections of Ground Spoilers, and Related Investigative/Corrective Actions

(a) Within 400 flight cycles after the effective date of this AD: Do one-time general visual, contour, and clearance inspections for discrepancies of the ground spoiler assemblies and the wing flaps by doing all the actions per the Accomplishment Instructions of Dornier Service Bulletin SB-328J-57-180, Revision 1, dated March 10, 2003. Any applicable related investigative and corrective actions must be done before further flight per the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Submission of Inspection Results Not Required

(b) Although the service bulletin referenced in this AD specifies to submit information to the manufacturer, this AD does not include such a requirement.

Alternative Methods of Compliance

(c) In accordance with 14 CFR 39.19, the Manager, International Branch, ANM-116, Transport Airplane Directorate, FAA, is authorized to approve alternative methods of compliance for this AD.

Note 2: The subject of this AD is addressed in German airworthiness directive 2003-120/2, dated July 24, 2003.

Issued in Renton, Washington, on March 11, 2004.
Kalene C. Yanamura,
Acting Manager, Transport Airplane Directorate, Aircraft Certification Service.

[FR Doc. 04-5967 Filed 3-16-04; 8:45 am]

BILLING CODE 4910-13-P